DEPARTMENT OF COMMERCE

[Docket Number: 100624279-0279-01]

RIN 0625-XA09

Request for Public Comment To Inform Development of National Export Initiative Plan

AGENCY: International Trade Administration: Trade Promotion Coordinating Committee.

ACTION: Notice and request for information.

SUMMARY: President Obama launched the National Export Initiative (NEI) via Executive Order 13534 in order to achieve the goal of doubling U.S. exports of goods and services over five years to facilitate the creation of jobs in the United States. As part of the broad Federal government effort to support the NEI, the Administration, through the interagency Trade Promotion Coordinating Committee (TPCC), is seeking information from exporters, other private businesses, trade associations, academia, labor organizations, non-governmental organizations, and other interested parties.

DATES: Comments must be received by 11:59 p.m., July 26, 2010, to be considered. Comments should be no more than 25 pages single spaced.

ADDRESSES: Submit comments by one of the following methods:

• Online: To submit comments via http://www.regulations.gov, enter docket number 100624279-0279-01 in the “Enter Keyword or ID” window at the http://www.regulations.gov home page and click “Search.” The site will provide a search-results page listing all documents associated with this docket. Find a reference to this notice by selecting “Notices” under “Document Type” on the search-results page, and click on the link entitled “Submit a Comment.” (For further information on using the http://www.regulations.gov Web site, please consult the resources provided on that Web site by clicking on the “Help” tab.) The http://www.regulations.gov Web site provides the option of making submissions by filling in a “General Comments” field, or by attaching a document. We expect that most submissions will be provided in an attached document. If a document is attached, it is sufficient to type “See attached” in the “General Comments” field. We strongly urge submitters to avail themselves of the electronic filing, if at all possible. Persons wishing to submit comments anonymously may do so by leaving the fields for name and organization blank.

• Mail: Trade Promotion Coordinating Committee, U.S. Department of Commerce, Room C102, 1401 Constitution Ave., NW., Washington, DC 20230 Attn.: NEI Comments.

To facilitate review and consideration of comments, the TPCC Secretariat will share comments with other TPCC agencies. Comments will be made public and should not contain confidential or business sensitive information.

FOR FURTHER INFORMATION CONTACT: Grace Hu, Trade Promotion Coordinating Committee, International Trade Administration, U.S. Department of Commerce, +1 202-482-5455.

SUPPLEMENTARY INFORMATION:

Background

• On March 11, 2010, President Obama issued Executive Order 13534 to enhance and coordinate Federal efforts to facilitate the creation of jobs in the United States through the promotion of exports, and to ensure the effective use of Federal resources in support of these goals. The Executive Order can be found online at http://www.whitehouse.gov/the-press-office/executive-order-national-export-initiative. The Executive Order instructs the Export Promotion Cabinet, through the TPCC, to provide a report to the President within 180 days on a comprehensive plan to carry out the goals of the NEI.

• The TPCC, established by the Export Enhancement Act of 1992 (Pub. L. 102-429), is an interagency committee that coordinates the development of U.S. Government trade promotion policies and programs. The TPCC is composed of representatives from 20 Federal agencies. The Secretary of Commerce chairs the TPCC. Other agencies and offices represented are the Export-Import Bank, the Overseas Private Investment Corporation, the U.S. Trade and Development Agency, the Small Business Administration, the Departments of Agriculture, State, Defense, Energy, Homeland Security, Interior, Labor, Transportation and the Treasury, the Office of the U.S. Trade Representative, the U.S. Agency for International Development, the U.S. Environmental Protection Agency, the Office of Management and Budget, the National Security Council, the National Economic Council, and the Council of Economic Advisors.

• The NEI is President Obama's initiative to improve conditions that directly affect the private sector's ability to export. The NEI will help meet the Administration's goal of doubling exports over the next 5 years by working to remove trade barriers, by helping firms—especially small businesses—overcome the hurdles to entering new export markets, by assisting with financing, and in general by pursuing a government-wide approach to export advocacy abroad, among other steps.

General information concerning the NEI and government programs that help U.S. businesses export is available at http://www.export.gov.

Public Comments

The TPCC is seeking information from exporters, other private businesses, trade associations, academia, labor organizations, non-governmental organizations, and other interested parties regarding:

(1) Identification of Federal government programs or regulations that impede the ability of U.S. companies to export;

(2) Effective foreign trade promotion programs and activities that could inform U.S. Federal government program development;

(3) Identification of the most (or least) effective Federal government programs that support U.S. exports, including specific experiences with such Federal government programs;

(4) Steps that the Federal government could take to improve its programs to support U.S. exports; and

(5) More generally, how the Federal government could better help U.S. businesses export.

In particular, we are seeking comments with respect to the following eight priority areas set forth by the President in Executive Order 13534:

(a) Exports by Small and Medium-Sized Enterprises (SMEs);

(b) Federal Export Assistance;

(c) Trade Missions;

(d) Commercial Advocacy;

(e) Increasing Export Credit;

(f) Macroeconomic Rebalancing;

(g) Reducing Barriers to Trade; and

(h) Export Promotion of Services.

In responding, please indicate your experience with exporting and the type of organization you are affiliated with, if any, i.e., small business, large company, trade association, academia, labor organization, or other non-governmental organization. For organizations submitting comments to the Federal Register (FR) notice on the TPCC Renewable Energy and Energy Efficiency Export Strategy to Support the NEI (FR Doc. 2010-12982), comments received in response to that notice will be considered and do not need to be resubmitted. The information received will help the Administration develop the NEI plan called for by the President in Executive Order 13534. With regard to the priority area involving “Reducing Barriers to Trade,” the Administration will take into account public comments previously received by the Office of the U.S. Trade Representative with regard to the development and implementation of U.S. trade policy. See FR notices at http://www.ustr.gov/federal-register-notices and http://www.regulations.gov for a complete enumeration of those notices and comments received.

Dated: June 24, 2010.
Joe Hurd,
Senior Director, Trade Promotion Coordinating Committee, U.S. Department of Commerce.

[FR Doc. 2010-15934 Filed 6-29-10; 8:45 am]

BILLING CODE 3510-FP-P